NUCLEAR REGULATORY COMMISSION

[NRC-2015-0203]

Instructions for Recording and Reporting Occupational Radiation Dose Data

AGENCY: Nuclear Regulatory Commission.

ACTION: Regulatory guide; issuance.

SUMMARY: The U.S. Nuclear Regulatory Commission (NRC) is issuing Revision 3 to Regulatory Guide (RG) 8.7, “Instructions for Recording and Reporting Occupational Radiation Dose Data.” Regulatory Guide 8.7 describes methods that the staff of NRC considers acceptable for licensees to use for the preparation, retention, and reporting of records of occupational radiation doses. Revision 3 addresses changes to applicable NRC regulations and related staff practices since Revision 2 was issued in November 2005. Revision 3 includes changes in the process a licensee needs to follow in order to monitor occupational exposure, determine prior doses, record monitoring results, and report the results, when required. In addition, Revision 3 references revised versions of NRC Form 4, “Cumulative Occupational Dose History,” and NRC Form 5, “Occupational Dose Record for a Monitoring Period.” The revised forms, which are already available, should be used by NRC licensees beginning in January 2017.

DATES: Revision 3 to RG 8.7 is available on December 8, 2016.

ADDRESSES: Please refer to Docket ID NRC-2015-0203 when contacting the NRC about the availability of information regarding this document. You may obtain publically-available information related to this document using any of the following methods:

• Federal Rulemaking Web site: Go to http://www.regulations.gov and search for Docket ID NRC-2015-0203. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. Revision 3 to RG 8.7 and the regulatory analysis may be found in ADAMS under Accession Nos. ML16054A170 and ML15169A219, respectively.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Terry Brock, telephone: 301-415-1793; email: Terry.Brock@nrc.gov or Harriet Karagiannis, telephone: 301-415-2493; email: Harriet.Karagiannis@nrc.gov. Both are staff of the Office of Nuclear Regulatory Research, U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Proposed Revision 3 of RG 8.7 was issued with a temporary identification of Draft Regulatory Guide DG-8030 and is available under ADAMS Accession No. ML15169A218. The NRC published DG-8030 for public comment on August 28, 2015 (80 FR 52345). The public comment period closed on October 27, 2015. The NRC received one set of comments from an industry association and those comments and the NRC staff's responses are available under ADAMS Accession No. ML16060A392. In a related action, the NRC requested public comments on its proposed revisions to Form 5, “Occupational Dose Record for a Monitoring Period” on June 19, 2012 (77 FR 36583). The public comment period closed on July 20, 2012. The NRC received four sets of comments from industry and those comments and the NRC staff's responses are available under ADAMS Accession No. ML16308A071.

Revision 3 of RG 8.7 addresses changes identified since Revision 2 was issued in November 2005. In particular, the regulations in 10 CFR 20.1201(c) concerning the measurement of external exposure by either deep-dose equivalent or effective dose equivalent (for external exposures) (EDEX), and the regulations in 10 CFR 20.1003 and 10 CFR 50.2 regarding the definition of the “total effective dose equivalent” (TEDE), were amended and became effective on January 3, 2008 (72 FR 68043; December 4, 2007). As a result of the revised definition of TEDE, the NRC staff developed the additional acronym EDEX and this term was included in the revised NRC Forms 4 and 5 that were updated in April 2015. Revision 3 of RG 8.7 references the revised versions of NRC Forms 4 and 5, as well as detailed instructions for completing these forms. The acronym EDEX and the term “total organ dose equivalent” are included in the revised forms to be consistent with current NRC practice.

II. Use of Revised NRC Forms 4 and 5

The new NRC Form 4, “Cumulative Occupational Dose History (04-2015),” or its electronic equivalent, is available for use by NRC licensees to record an individual's cumulative occupational dose history. NRC licensees may also continue to use the old NRC Form 4, “Cumulative Occupational Dose History (10/2001),” until December 31, 2016. All NRC licensees should use the new NRC Form 4 or its equivalent beginning January 1, 2017.

The new NRC Form 5, “Occupational Dose Record for a Monitoring Period (04-2015),” or its electronic equivalent, is available for use by NRC licensees to record the occupational dose for any monitoring period beginning on or after January 1, 2016. NRC licensees may also continue to use the old NRC Form 5, “Occupational Dose Record for a Monitoring Period (10/2001),” for any monitoring period beginning on or before December 31, 2016. All NRC licensees should use the new NRC Form 5 or its equivalent, for any monitoring period beginning on or after January 1, 2017. Both forms are available online through the NRC Library on the NRC's public Web site at http://www.nrc.gov/reading-rm/doc-collections.

III. Congressional Review Act

This RG is a rule as defined in the Congressional Review Act (5 U.S.C. 801-808). However, the Office of Management and Budget has not found it to be a major rule as defined in the Congressional Review Act.

IV. Backfitting

This RG addresses compliance with the NRC's requirements in 10 CFR part 20 to record and report an individual's cumulative occupational dose history and the occupational dose received by an individual for a specific monitoring period. The NRC regards these requirements as constituting information collection and reporting requirements. The NRC has long taken the position that information collection and reporting requirements are not subject to the NRC's backfitting and issue finality regulations in 10 CFR 50.109, 10 CFR 70.76, 10 CFR 72.62, 10 CFR 76.76, and 10 CFR part 52 (e.g., “Material Control and Accounting Methods,” December 23, 2002 (67 FR 78130); and “Regulatory Improvements to the Nuclear Materials Management and Safeguards System,” June 9, 2008 (73 FR 32453)). Therefore, the NRC has determined that its backfitting and issue finality regulations do not apply to this RG because the RG does not include any provisions within the scope of matters covered by the backfitting provisions in 10 CFR parts 50, 70, or 72, or the issue finality provisions of 10 CFR part 52.

Dated at Rockville, Maryland, this 2nd day of December 2016.
For the Nuclear Regulatory Commission.
Thomas H. Boyce,
Chief, Regulatory Guidance and Generic Issues Branch, Division of Engineering, Office of Nuclear Regulatory Research.

[FR Doc. 2016-29391 Filed 12-7-16; 8:45 am]

BILLING CODE 7590-01-P